DEPARTMENT OF THE INTERIOR

Bureau of Reclamation

Odessa Subarea Special Study; Adams, Franklin, Grant, and Lincoln Counties, Washington INT-DES 10-54

AGENCY: Bureau of Reclamation, Interior.

ACTION: Notice of availability and notice of public hearing of Draft Environmental Impact Statement (EIS).

SUMMARY: Pursuant to section 102(2)(C) of the National Environmental Policy Act (NEPA), the Bureau of Reclamation (Reclamation) is notifying the public that Reclamation and the State of Washington have prepared a Draft EIS for the Odessa Subarea Special Study. The Washington Department of Ecology (Ecology) is a joint lead with Reclamation in the preparation of this Draft EIS, which will also be used to comply with requirements of the Washington State Environmental Policy Act (SEPA).

The purpose of Reclamation's Odessa Subarea Special Study is to evaluate alternatives to replace groundwater supply with surface water to irrigate existing, groundwater-irrigated acres in the Odessa Ground Water Management Subarea. Measurements of groundwater levels in wells have shown a substantial decline in much of the Odessa Subarea since the 1980s, which are the earliest available measurements. This has prompted public concern about the declining aquifers and associated economic and other effects, which resulted in a directive by the U.S. Congress and the Washington State legislature to investigate the problem.

DATES: Written or e-mailed comments on the Draft EIS will be accepted through December 31, 2010. Public hearings will be held in November 2010. See the Supplementary Information section for dates and locations of these hearings.

ADDRESSES: Written comments on the Draft EIS may be submitted to Bureau of Reclamation, Columbia-Cascades Area Office, Attention: Charles Carnohan, Activity Manager, 1917 Marsh Road, Yakima, Washington 98901-2058. Comments may also be submitted electronically to Odessa@usbr.gov.

FOR FURTHER INFORMATION CONTACT: Charles Carnohan, Activity Manager, Telephone (509) 575-5848 x370. Information on this project can also be found at http://www.usbr.gov/pn/programs/ucao_misc/odessa/index.html.

SUPPLEMENTARY INFORMATION:

Dates of Public Hearings

• November 17, 2010, 3 p.m.-7 p.m., Coulee Dam, WA.

• November 18, 2010, 3 p.m.-7 p.m., Moses Lake, WA.

Locations of Public Hearings

• Town of Coulee Dam Town Hall, 300 Lincoln Avenue, Coulee Dam, WA 99116.

• Grant County Advanced Technologies Center (ATEC) Building 1800, Big Bend Community College, 7611 Bolling Street NE., Moses Lake, WA 98837.

Meeting facilities are accessible to people with disabilities. People needing special assistance to attend and/or participate should contact Charles Carnahan at (509) 575-5848, extension 370, or mail him at the address in the Addresses section, as soon as possible. To allow sufficient time to process special requests, please call no later than one week before the public meeting of interest.

TTY users may dial 711 to obtain a toll free TTY relay. Spanish language interpretation requests should be made to Enedina Galvez at (509) 575-5848. Si necesita interpretacion para Espanol, por favor llame Enedina Galvez a (509) 575-5848.

Hearing Process Information

Requests to make oral comments at the public hearing may be made at the hearing. In order to ensure that all those interested in providing oral comments have an opportunity to do so, speakers will be limited to 5 minutes. Comments will be recorded by a court reporter. Speakers will be called in the order indicated on the sign-in list for speaking. Speakers not present when called will be recalled at the end of the scheduled speakers. Speakers may provide written versions of their oral comments, or other additional written comments, for the hearing record. Longer comments should be summarized at the public hearing and submitted in writing either at the public hearing or identified as hearing comments and mailed within 7 days of the hearing date to Mr. Charles Carnohan as indicated under the ADDRESSES section.

Background Information

The Columbia Basin Project (CBP) is a multipurpose water development project in the central part of the state of Washington. The Grand Coulee Dam Project was authorized for construction by the Act of August 30, 1935, and reauthorized and renamed in the CBP Act of March 10, 1943. Congress authorized the CBP to irrigate a total of 1,029,000 acres; about 671,000 acres are currently irrigated.

Section 9(a) of the Reclamation Project Act of 1939 gave authority to the Secretary of the Interior (Secretary) to approve a finding of feasibility and thereby authorize construction of a project upon submitting a report to the President and the Congress. The Secretary approved a plan of development for the CBP, known as House Document No. 172 in 1945. House Document No. 172 anticipated that development of the CBP would occur in phases over a 70-year period. Reclamation is authorized to implement additional development phases as long as the Secretary finds it to be economically justified and financially feasible. The Odessa Subarea Special Study is conducted under the authority of the CBP Act of 1943, as amended, and the Reclamation Act of 1939.

In response to the public's concern about the declining aquifer and associated economic and other effects, Congress has funded Reclamation to investigate this problem. Ecology has partnered with Reclamation by providing funding and collaborating on various technical studies.

The State, Reclamation, and irrigation districts signed the Columbia River Initiative Memorandum of Understanding (CRI MOU) in December 2004, to promote a cooperative process for implementing activities to improve Columbia River water management and water management within the CBP. The Odessa Subarea Special Study implements Section 15 of the CRI MOU, which states in part that, “The parties will cooperate to explore opportunities for delivery of water to additional existing agricultural lands within the Odessa Subarea.” In February 2006, the State legislature passed the Columbia River Water Resource Management Act (HB 2860) that directs Ecology to aggressively pursue development of water benefiting both instream and out-of-stream uses through storage, conservation, and voluntary regional water management agreements. Reclamation's Odessa Subarea Special Study is one of several activities identified in the legislation.

Reclamation has developed alternatives to replace the current and increasingly unreliable groundwater supplies used for irrigation with a surface supply as part of continued phased development of the CBP. Reclamation can only deliver water to lands authorized to receive CBP water. An estimated 170,000 acres within the Odessa Subarea are now being irrigated with groundwater with an estimated 140,000 of these acres eligible to receive CBP surface water.

Reclamation and Ecology are studying the potential to replace groundwater currently used for irrigation in the Odessa Subarea Special Study Area (Study Area) with CBP surface water. The alternatives being considered include the No Action Alternative as required by NEPA and SEPA, and eight action alternatives that address the Purpose and Need. The eight action alternatives fall within two categories:

Partial Replacement: This group of delivery alternatives focuses on enlarging the existing East Low Canal and providing CBP surface water to approximately 58,000 acres in the Study Area currently irrigated with groundwater. The acreage served would be south of I-90. No surface water replacement would be provided to most of the remaining groundwater-irrigated acres in the Study Area (north of I-90).

Full Replacement: This group of delivery alternatives would provide CBP surface water to most groundwater-irrigated acreage in the Study Area (102,614 acres), both north and south of I-90. Lands south of I-90 would be served by enlarging the East Low Canal. Lands north of I-90 would be served by constructing an East High Canal system.

The eight action alternatives consist of four partial replacement alternatives and four full replacement alternatives. The four alternatives within each of the two replacement alternative categories consist of variations in the water supply options that would be used. Four supply options are being considered that would use storage from Banks Lake, Lake Roosevelt, or a new Rocky Coulee Reservoir, either individually or in combination, as follows: Option A— Banks Lake, would use storage in and additional drawdowns from Banks Lake, exclusively; Option B—Banks Lake and Lake Roosevelt, would use existing storage in Banks Lake and Lake Roosevelt, resulting in drawdowns from both reservoirs; Option C—Banks Lake and Rocky Coulee Reservoir, would use existing storage in Banks Lake, plus a new Rocky Coulee Reservoir; and Option D—Banks Lake, Lake Roosevelt, and Rocky Coulee Reservoir, would use a combination of all three storage facilities. Alternatives would involve various combinations and configurations of these water conveyance and water supply components.

The Draft EIS is available for public inspection at the following locations:

• Bureau of Reclamation, Columbia-Cascades Area Office, 1917 Marsh Road, Yakima, WA 98901-2058; telephone: (509) 575-5848.

• Bureau of Reclamation, Pacific Northwest Regional Office, 1150 North Curtis Road, Suite 100, Boise, ID 83706-1234; telephone: (208) 378-5012.

Libraries

• Ritzville Public Library, 302 West Main, Ritzville, WA 99169.

• Basin City Branch, Mid-Columbia Library, Basin City, WA 99343.

• Benton-Franklin County Regional Law Library, Columbia Basin College, L Building, 2600 North 10th Avenue, Pasco, WA 99301.

• Big Bend Community College Library, Building 1800, 7611 Bolling Street, NE, Moses Lake, WA 98837.

• Columbia Basin College Library, 2600 North 20th Avenue, Pasco, WA 99301.

• Connell Branch, Mid-Columbia Library, 118 North Columbia Avenue, Connell, WA 99362.

• Coulee City Public Library, 405 West Main Street, Coulee City, WA 99115.

• Ephrata City Library, 45 Alder Street Northwest, Ephrata, WA 98823-2420.

• Grant County Law Library, 35 C Street, NW, Ephrata, WA 98823.

• Kahlotus Branch, Mid-Columbia Library, East 225 Weston, Kahlotus, WA 99335.

• Moses Lake Community Library, 418 East 5th Avenue, Moses Lake, WA 98837-1797.

• Odessa Public Library, 21 East 1st Avenue, Odessa, WA 99159.

• Othello Branch, Mid-Columbia Library, 101 East Main, Othello, WA 99344.

• Pasco Branch, Mid-Colombia Library, 1320 West Hopkins, Pasco, WA 99301.

• Quincy Public Library, 108 B Street Southwest, Quincy, WA 98848.

• North Central Regional Library, Royal City Library, 136 Camelia Street, Royal City, WA 99357.

• Seattle Public Library, Central Library, 1000 Fourth Avenue, Seattle, WA 98104.

• Sprague Public Library, 119 West Second Street, Sprague, WA 99032.

• North Central Regional Library, Warden Library, 305 South Main Street, Warden, WA 98857.

• Washington State Library, 6880 Capitol Boulevard South, Olympia, WA 98504.

Public Disclosure Statement

If you wish to comment, you may mail or e-mail your comments as indicated under the ADDRESSES section. Before including your name, address, phone number, e-mail address, or other personal identifying information in your comment, you should be aware that your entire comment (including your personal identifying information) may be made publicly available at any time. While you can request in your comment for us to withhold your personal identifying information from public review, we cannot guarantee that we will be able to do so.

Timothy L. Personius,
Acting Regional Director, Pacific Northwest Region.

[FR Doc. 2010-26865 Filed 10-22-10; 8:45 am]

BILLING CODE 4310-MN-P